DEPARTMENT OF EDUCATION

National Advisory Committee on Institutional Quality and Integrity (NACIQI) Meeting

AGENCY: National Advisory Committee on Institutional Quality and Integrity, Office of Postsecondary Education, Department of Education.

Purpose: Revised meeting notice and solicitation of third-party written comments.

SUMMARY: This notice advises interested parties of changes concerning the scheduling of the first meeting of the reconstituted National Advisory Committee on Institutional Quality and Integrity (NACIQI) and amends information provided in the original meeting notice published in the April 23, 2010 Federal Register (75 FR 21280).

FOR FURTHER INFORMATION CONTACT: Melissa Lewis, Executive Director, National Advisory Committee on Institutional Quality and Integrity, U.S. Department of Education, Room 8060, 1990 K Street, NW., Washington, DC 20006, telephone: (202) 219-7009; fax: (202) 219-7005, e-mail: Melissa.Lewis@ed.gov. Individuals who use a telecommunications device for the deaf (TDD) may call the Federal Information Relay Service at 1-800-877-8339 between 8 a.m. and 8 p.m. Eastern time, Monday through Friday. For individuals who will need accommodations for a disability in order to attend the meeting (i.e. interpreter services, assistive listening devices, and/or materials in alternative format), they should contact Melissa Lewis, telephone: (202 219-7009); e-mail: Melissa.Lewis@ed.gov no later than November 1, 2010. We will attempt to meet requests after this date, but cannot guarantee the availability of the requested accommodation. The meeting site is accessible.

Revised Information: (1) The NACIQI is now scheduled to meet on Wednesday-Friday, December 1-3, 2010, from 8:30 a.m. to approximately 5 p.m. The NACIQI will not meet on Tuesday-Thursday, September 14-16, 2010. Printed meeting materials, including but not limited to the Department's staff analyses, will not be available at the meeting. Instead, the Department will offer electronic copies of meeting materials by making them available on the NACIQI Web site, http://www2.ed.gov/about/bdscomm/list/naciqi.html, approximately two weeks in advance of the meeting and will provide them on CDs at the meeting. (2) Changes in the list of agencies originally proposed for review at the meeting include:

• The North Central Association Commission on Accreditation and School Improvement, which was originally proposed for review during the NACIQI's September 2010 meeting, is no longer proposed for review because it is now considered a new agency known as AdvancED.

• The New England Association of Schools and Colleges, Commission on Technical and Career Institutions, which was originally proposed for review during the NACIQI's September 2010 meeting, is no longer proposed for review because they no longer wish to seek continued recognition from the Department of Education.

(3) Because of the new meeting date and the revised list of agencies, written third-party comments may be submitted up to September 22, 2010 for consideration.

In all instances, written comments about agencies seeking initial recognition, continued recognition, and/or an expansion of an agency's scope of recognition must relate to the Criteria for Recognition found at section 496 of the Higher Education Act of 1965, as amended, and 34 CFR parts 602 and 603. In addition, comments for any agency whose interim report/compliance report is proposed for review must relate to the issues raised within the letter that requested the report.

The agencies proposed for review now comprise:

Nationally Recognized Accrediting Agencies.

Compliance Reports.

1. Association of Advanced Rabbinical and Talmudic Schools, Accreditation Commission.

2. Commission on Accreditation of Healthcare Management Education.

3. Council on Accreditation of Nurse Anesthesia Educational Program.

4. Council on Education for Public Health.

5. Northwest Commission on Colleges and Universities (progress report).

6. The Higher Learning Commission of the North Central Association of Colleges and Schools.

Petition for Initial Recognition.

1. AdvancED.

Petitions for Renewal of Recognition.

1. American Academy for Liberal Education.

2. American Board of Funeral Service Education.

3. American Speech Language Hearing Association, Council on Academic Accreditation in Audiology and Speech-Language Pathology.

4. Commission on Massage Therapy Accreditation.

5. Council on Naturopathic Medical Education.

6. Midwifery Education Accreditation Council.

7. Montessori Accreditation Council for Teacher Education, Commission on Accreditation.

8. National Accrediting Commission of Cosmetology Arts and Sciences.

9. Western Association of Schools and Colleges Accrediting Commission for Schools.

State Agencies Recognized for the Approval of Nurse Education.

1. Missouri State Board of Nursing

When, where, and how should I submit my written comments?

Submit your written comments by e-mail no later than September 22, 2010 to the Accreditation and State Liaison (ASL) Records Manager at aslrecordsmanager@ed.gov with the subject line listed “Written Comments re: (agency name).” In all instances, your comments about agencies seeking continued recognition and/or an expansion of an agency's scope of recognition must relate to the Criteria for Recognition.

Do not send material directly to NACIQI members.

Only materials submitted by the deadline to the e-mail address listed in this notice, and in accordance with these instructions, become part of the official record and are considered by the Department and the NACIQI in their deliberations.

Will this be my only opportunity to submit written comments regarding agencies listed in this notice that are proposed to be reviewed by NACIQI at the meeting?

Yes. This notice announces the only opportunity you will have to submit written comments on those agencies for this meeting. However, a subsequent Federal Register notice will publish another meeting notice and invite individuals and groups to submit requests to make oral presentations before the NACIQI on the agencies proposed for review. That notice, however, does not offer a second opportunity to submit written comments. If other agencies are added to the agenda when it is finalized, an additional notice will be published soliciting written comment on those agencies.

What happens to the written comments that I submit or submitted in response to the April 23, 2010 Federal Register notice?

Any third-party written comments regarding an agency received by September 22, 2010, in accordance with either this Federal Register notice, or with the April 23, 2010 Federal Register notice cited above, will become part of the official record. Those comments will be considered by the Department in its review of the agency's submission and by the NACIQI at the December 2010 meeting.

What happens to comments received after the deadline?

Department staff will review any comments received after the deadline. If such comments, upon investigation, reveal that the agency is not acting in accordance with the Criteria for Recognition, we will take action either before or after the meeting, as appropriate. Documents responsive to this notice but received after September 22, 2010 will not be distributed to the NACIQI for its consideration. Individuals making oral presentations may not distribute written materials at the meeting.

How may I obtain electronic access to this document?

You may view this document, as well as all other Department of Education documents published in the Federal Register, in text or Adobe Portable Document Format (PDF), on the Internet at the following site: http://www2.ed.gov/news/fedregister/index.html. To use PDF, you must have Adobe Acrobat Reader, which is available free at this site.

Note: The official version of this document is the document published in the Federal Register. Free Internet access to the official edition of the Federal Register and the Code of Federal Regulations is available on GPO Access at: http://www.gpoaccess.gov/nara/index.html.

Authority: 5 U.S.C. Appendix 2.

Eduardo M. Ochoa,
Assistant Secretary for Postsecondary Education.

[FR Doc. 2010-20908 Filed 8-20-10; 8:45 am]

BILLING CODE 4000-01-P